DEPARTMENT OF ENERGY

Federal Energy Regulatory Commission

[Docket No. RP00-506-005]

Northwest Pipeline Corporation; Notice of Compliance Filing

May 16, 2001.

Take notice that on May 10, 2001, Northwest Pipeline Corporation (Northwest) tendered for filing as part of its FERC Gas Tariff, Third Revised Volume No. 1, the following tariff sheets, to be effective February 25, 2001:

2nd Substitute Eighth Revised Sheet No. 24

2nd Substitute Fifth Revised Sheet No. 259

2nd Substitute First Revised Sheet No. 278-C

Northwest states that the purpose of this filing is to comply with the Commission's order dated April 25, 2001 in Docket Nos. RP00-506-003 and RP00-506-004 directing Northwest to file revised tariff sheets to remove the proposed restrictions for reductions of maximum daily quantities (MDQs) and maximum daily delivery obligations (MDDOs) at individual receipt and delivery points in the event of a partial capacity turnback.

Northwest states that a copy of this filing has been served upon each person designated on the official service list compiled by the Secretary in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

David P. Boergers,
Secretary.

[FR Doc. 01-12782 Filed 5-21-01; 8:45 am]

BILLING CODE 6717-01-M